DEPARTMENT OF TRANSPORTATION

Federal Aviation Administration

14 CFR Part 39

[Docket No. FAA-2007-27257; Directorate Identifier 2006-NM-131-AD]

RIN 2120-AA64

Airworthiness Directives; Airbus Model A300 Series Airplanes and Model A300-600 Series Airplanes

AGENCY: Federal Aviation Administration (FAA), Department of Transportation (DOT).

ACTION: Supplemental notice of proposed rulemaking (NPRM); reopening of comment period.

SUMMARY: The FAA is revising an earlier NPRM for an airworthiness directive (AD) that applies to all Airbus Model A300 airplanes; and all Airbus Model A300 B4-601, A300 B4-603, A300 B4-620, A300 B4-622, A300 B4-605R, A300 B4-622R, A300 F4-605R, A300 F4-622R, and A300 C4-605R Variant F airplanes. The original NPRM would have required inspecting to determine the part number of the sliding rods of the main landing gear (MLG) retraction actuators. For MLG retraction actuators equipped with sliding rods having certain part numbers, the original NPRM would also have required inspecting for discrepancies, including but not limited to cracking, of the sliding rod; and performing corrective actions if necessary. The original NPRM resulted from a report of a failure of a sliding rod of the MLG retraction actuator before the actuator reached the life limit established by the manufacturer. This action revises the original NPRM by proposing to require the return of affected sliding rods to the manufacturer. We are proposing this supplemental NPRM to prevent failure of the sliding rod of the MLG retraction actuator, which could result in reduced structural integrity of the MLG.

DATES: We must receive comments on this supplemental NPRM by October 15, 2007.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this supplemental NPRM. Send your comments to an address listed in the ADDRESSES section. Include the docket number “FAA-2007-27257; Directorate Identifier 2006-NM-131-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the DOT street address stated in the ADDRESSES section. Comments will be available in the AD docket shortly after the Docket Management System receives them.

Discussion

We proposed to amend 14 CFR part 39 with a notice of proposed rulemaking (NPRM) for an airworthiness directive (AD) (the “original NPRM”). The original NPRM applies to all Airbus Model A300 airplanes; and all Airbus Model A300 B4-601, A300 B4-603, A300 B4-620, A300 B4-622, A300 B4-605R, A300 B4-622R, A300 F4-605R, A300 F4-622R, and A300 C4-605R Variant F airplanes. The original NPRM was published in the Federal Register on February 14, 2007 (72 FR 6977). The original NPRM proposed to require inspecting to determine the part number of the sliding rods of the main landing gear (MLG) retraction actuators. For MLG retraction actuators equipped with sliding rods having certain part numbers, the original NPRM also proposed to require inspecting for discrepancies, including but not limited to cracking, of the sliding rod; and performing corrective actions if necessary.

Comments

We have considered the following comments on the original NPRM.

Request To Require That Retraction Actuator Sliding Rods Be Returned

Airbus, the airplane manufacturer, requests that we require that retraction actuator sliding rods be returned to the part manufacturer when the life limit threshold of 32,000 flight cycles is reached. Airbus states that because the reported failure of the sliding rod of the MLG retraction actuator was before the life limit of 32,000 flight cycles, the part manufacturer has been requested to identify the root cause. Airbus states that for this purpose, the part manufacturer must be provided with any removed retraction actuator sliding rod.

We agree with the commenter for the reasons stated by the commenter. We have added paragraph (i) to this supplemental NPRM to require returning the sliding rods to the part manufacturer when the life limit is reached for the first replacement cycle only. We have also reidentified subsequent paragraphs.

Request To Allow Records Review

UPS requests that we allow operators to do a records review instead of the inspection specified in paragraph (g) of the original NPRM. UPS states that if the records review can conclusively determine whether or not the part is installed, it will be an equivalent level of safety to the proposed inspection.

We agree with the comment for the reasons stated by the commenter. We have revised paragraph (g) of this supplemental NPRM to allow operators to do a records review instead of the inspection.

Request To Revise Compliance Time

An anonymous commenter requests that we revise the compliance time specified in paragraph (g) of the original NPRM to match the compliance time specified in the corresponding European Aviation Safety Agency (EASA) airworthiness directive. The commenter states that the EASA airworthiness directive 2006-0075 R2, dated January 4, 2007, specifies doing the inspection at the accumulation of 27,000 flight cycles within 1,000 flight cycles or one year, whichever occurs first. The commenter points out that the original NPRM would require the inspection be done before the accumulation of 27,000 total flight cycles. The commenter notes that the original NPRM would result in a threshold of 26,999 flight cycles whereas the EASA airworthiness directive specifies that the inspection be done between 27,000 flight cycles and 28,000 flight cycles.

We agree with the commenter to revise the compliance time. We intended to match the compliance times specified in EASA airworthiness directive. We have revised paragraphs (g) and (h) of this supplemental NPRM to match the intent of the EASA airworthiness directive. We have also added new paragraph (k) to this supplemental NPRM to ensure that any replaced parts are inspected at the compliance time specified in paragraph (h) of this supplemental NPRM.

Explanation of Changes to NPRM

We have revised the applicability of this supplemental NPRM to identify model designations as published in the most recent type certificate data sheet for the affected models.

We have also revised this action to clarify the appropriate procedure for notifying the principal inspector before using any approved AMOC on any airplane to which the AMOC applies.

FAA's Determination and Proposed Requirements of the Supplemental NPRM

Certain changes discussed above expand the scope of the original NPRM; therefore, we have determined that it is necessary to reopen the comment period to provide additional opportunity for public comment on this supplemental NPRM.

Costs of Compliance

The following table provides the estimated costs for U.S. operators to comply with this supplemental NPRM, at an average labor rate of $80 per work hour, per inspection cycle.

Estimated Costs
Action | Work hours | Parts | Cost per airplane | Number of U.S.-registered airplanes | Fleet cost
Inspection to determine part number | 1 | None | $80 | 168 | $13,440
Inspections for discrepancies | 11 | None | 880 | 168 | 147,840

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2007-27257; Directorate Identifier 2006-NM-131-AD.

Comments Due Date

(a) The FAA must receive comments on this AD action by October 15, 2007.

Affected ADs

(b) None.

Applicability

(c) This AD applies to all Airbus Model A300 series airplanes; and all Airbus Model A300-600 series airplanes; certificated in any category.

Unsafe Condition

(d) This AD results from a report of a failure of a sliding rod of the main landing gear (MLG) retraction actuator before the actuator reached the life limit established by the manufacturer. We are issuing this AD to prevent failure of the sliding rod of the MLG retraction actuator, which could result in reduced structural integrity of the MLG.

Compliance

(e) You are responsible for having the actions required by this AD performed within the compliance times specified, unless the actions have already been done.

Service Bulletin Reference

(f) The term “service bulletin,” as used in this AD, means the Accomplishment Instructions of the service bulletins identified in paragraphs (f)(1) and (f)(2) of this AD, as applicable.

(1) For Model A300 series airplanes: Airbus Service Bulletin A300-32-0450, Revision 01, excluding Appendix 01, dated May 10, 2006.

(2) For Model A300-600 series airplanes: Airbus Service Bulletin A300-32-6097, Revision 01, excluding Appendix 01, dated May 10, 2006.

Note 1: The Airbus service bulletins refer to Messier-Dowty Special Inspection Service Bulletin 470-32-806, dated October 27, 2005, as an additional source of service information for performing detailed and high-frequency eddy current (HFEC) inspections to detect discrepancies of the sliding rod.

Inspection To Determine Part Number (P/N) of Sliding Rod

(g) At the applicable time specified in paragraph (g)(1) or (g)(2) of this AD, do a one-time inspection to determine the part number of the sliding rod of the MLG retraction actuator, in accordance with the applicable service bulletin. If no sliding rod having P/N C69029-2 or C69029-3 is installed, no further action is required by this paragraph. A review of airplane maintenance records is acceptable in lieu of this inspection if the part number of the sliding rod of the MLG retraction actuator can be conclusively determined from that review.

(1) For airplanes that have accumulated less than 27,000 flight cycles on the MLG retraction actuator as of the effective date of this AD: After accumulating 27,000 flight cycles on the MLG retraction actuator, do the inspection within the next 1,000 flight cycles or 12 months, whichever occurs first.

(2) For airplanes that have accumulated 27,000 or more flight cycles on the MLG retraction actuator as of the effective date of this AD: Do the inspection within 1,000 flight cycles or 12 months, whichever occurs first, after the effective date of this AD.

Inspection for Discrepancies of Sliding Rod and Corrective Actions

(h) For MLG retraction actuators equipped with sliding rods having P/N C69029-2 or C69029-3: At the applicable time specified in paragraph (h)(1) or (h)(2) of this AD, perform detailed and HFEC inspections of the sliding rod of the MLG retraction actuators on the left-hand and right-hand MLGs, in accordance with the applicable service bulletin. Then, before further flight, perform all applicable corrective actions, in accordance with the applicable service bulletin.

(1) For airplanes that have accumulated less than 27,000 flight cycles on the MLG retraction actuator as of the effective date of this AD: After accumulating 27,000 flight cycles on the MLG retraction actuator, do the inspections within the next 1,000 flight cycles or 12 months, whichever occurs first.

(2) For airplanes that have accumulated 27,000 or more flight cycles on the MLG retraction actuator as of the effective date of this AD: Do the inspections within 1,000 flight cycles or 12 months, whichever occurs first, after the effective date of this AD.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: Operators should note that the MLG retraction actuator rod must be replaced with a new or serviceable actuator rod before the 32,000-flight-cycle life limit specified in the applicable airworthiness limitations document, regardless of the inspection findings.

Return of MLG Retraction Actuator Sliding Rod

(i) For airplanes having any retraction actuator sliding rods specified in paragraphs (i)(1) and (i)(2) of this AD: After the effective date of this AD, for the first replacement of the retraction actuator sliding rod, return the retraction actuator sliding rod to Messier-Dowty, SA Product Support Engineering, BP10—78142 Velizy Cedex, France, within 30 days after the retraction actuator sliding rod is removed from the airplane.

(1) Any retraction actuator sliding rod that is found to have cracking during the actions specified in paragraph (h) of this AD.

(2) Any retraction actuator sliding rod, P/N C69029-2 or C69029-3, removed that has accumulated between 27,000 total flight cycles and 32,000 total flight cycles.

Parts Installation for MLG Retraction Actuator Rod

(j) As of the effective date of this AD, no person may install, on any airplane, an MLG retraction actuator that is equipped with a sliding rod having P/N C69029-2 or C69029-3, and on which the retraction actuator rod has accumulated 27,000 total flight cycles or more, unless paragraph (h) of this AD is accomplished.

(k) As of the effective date of this AD, any MLG retraction actuator that is equipped with a sliding rod having P/N C69029-2 or C69029-3, and on which the retraction actuator rod has accumulated less than 27,000 total flight cycles, may be installed, on any airplane, provided that the inspections specified in paragraph (h) of this AD are accomplished at the time specified in paragraph (h)(1) of this AD.

Actions Accomplished According to a Previous Issue of the Service Bulletins

(l) Inspections and corrective actions done before the effective date of this AD in accordance with the following service bulletins are acceptable for compliance with the corresponding requirements of this AD:

(1) For Model A300 series airplanes: Airbus Service Bulletin A300-32-0450, excluding Appendix 01, dated December 1, 2005.

(2) For Model A300-600 series airplanes: Airbus Service Bulletin A300-32-6097, excluding Appendix 01, dated December 1, 2005.

Alternative Methods of Compliance (AMOCs)

(m)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(n) European Aviation Safety Agency airworthiness directive 2006-0075R2, dated January 4, 2007, also addresses the subject of this AD.

Issued in Renton, Washington, on September 10, 2007.
Ali Bahrami,
Manager, Transport Airplane Directorate, Aircraft Certification Service.

[FR Doc. E7-18448 Filed 9-18-07; 8:45 am]

BILLING CODE 4910-13-P